DEPARTMENT OF ENERGY

48 CFR Parts 904, 952 and 970

RIN 1991-AB54

Acquisition Regulations; Conditional Payment of Fee, Profit, and Other Incentives

AGENCY: Department of Energy.

ACTION: Proposed rule; extension of public comment period.

SUMMARY: On February 1, 2001, the Department of Energy (DOE) published a Notice of Proposed Rulemaking to consider amending its Acquisition Regulation to: implement, in part, the requirements of Section 3147 of the National Defense Authorization Act for Fiscal Year 2000 relating to the safeguarding of classified information; establish more objective standards and procedures for considering and applying reductions of fee or other amounts payable for contractor performance failures relating to environment, safety, and health (ES&H); and make related technical and conforming amendments. The comment period was to end on March 5, 2001. In response to requests of several of DOE's major contractors, DOE is extending the comment period to on or before the close of business on April 5, 2001.

DATES: Written comments must be received on or before the close of business April 5, 2001.

ADDRESSES: Comments (3 copies) should be addressed to: Michael L. Righi, Department of Energy, Office of Procurement and Assistance Management, MA-51, 1000 Independence Avenue, SW., Washington, DC 20585.

FOR FURTHER INFORMATION CONTACT: Michael L. Righi at michael.l.righi@hq.doe.gov or (202) 586-8175.

Issued in Washington, D.C. on February 28, 2001.
Gwendolyn S. Cowan,
Acting Director, Office of Procurement and Assistance Management, Department of Energy.

[FR Doc. 01-5431 Filed 3-5-01; 8:45 am]

BILLING CODE 6450-01-P